DEPARTMENT OF THE INTERIOR

Bureau of Land Management

[MT-020-1020-DE]

Notice of Meeting

AGENCY: Bureau of Land Management (BLM), Montana, Billings and Miles City Field Offices, Interior.

ACTION: Notice of meeting.

SUMMARY: The Eastern Montana Resource Advisory Council will have a meeting April 27, 2000 at the Montana Fish, Wildlife, and Parks Conference Room west of Miles City starting at 8:00 a.m. Primary agenda topics include discussion on travel management, the BLM outfitter/guide program and updates on coalbed methane development, and the Pryor Mountain Wild Horse Herd Management Plan.

The meeting is open to the public and the public comment period is set for 11:00 a.m. on April 27. The public may make oral statements before the Council or file written statements for the Council to consider. Depending on the number of persons wishing to make an oral statement, a per person time limit may be established. Summary minutes of the meeting will be available for public inspection and copying during regular business hours.

FOR FURTHER INFORMATION CONTACT: Marilyn Krause, Public Affairs Specialist, Miles City Field Office, 111 Garryowen Road, Miles City, Montana 59301, telephone (406) 233-2831.

SUPPLEMENTARY INFORMATION: The purpose of the Council is to advise the Secretary of the Interior, through the BLM, on a variety of planning and management issues associated with public land management. The 15 member Council includes individuals who have expertise, education, training or practical experience in the planning and management of public lands and their resources and who have a knowledge of the geographical jurisdiction of the Council.

Dated: March 10, 2000.
Timothy M. Murphy,
Miles City Field Manager.

[FR Doc. 00-7212 Filed 3-22-00; 8:45 am]

BILLING CODE 4310-$$-P